DEPARTMENT OF THE INTERIOR

U.S. Geological Survey

Scientific Earthquake Studies Advisory Committee

AGENCY: U.S. Geological Survey, Interior.

ACTION: Notice of meeting.

SUMMARY: Pursuant to Public Law 106-503, the Scientific Earthquake Studies Advisory Committee (SESAC) will hold its next meeting at the U.S. Geological Survey, in Golden, Colorado. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program. Focus topics for this meeting include the 2014 program plan, 2015 proposed budget, and strategic planning for 2016-2018.

Meetings of the Scientific Earthquake Studies Advisory Committee are open to the public.

DATES: May 29-30, 2014, commencing at 9:00 a.m. on the first day and adjourning at 1:00 p.m. on May 30th, 2014.

CONTACT: Dr. William Leith, U.S. Geological Survey, MS 905, 12201 Sunrise Valley Drive, Reston, Virginia 20192, (703) 648-6786, wleith@usgs.gov.

Dated: May 13, 2014.
J. David R. Applegate,
Associate Director for Natural Hazards.

[FR Doc. 2014-11331 Filed 5-15-14; 8:45 am]

BILLING CODE P